GENERAL SERVICES ADMINISTRATION

41 CFR Parts 301-2, 301-10, 301-11, 301-13, 301-50, 301-70, 301-71, 304-3, and 304-5

[FTR Amendment 2005-03; FTR Case 2005-304]

RIN 3090-AI10

Federal Travel Regulation; Transportation Expenses

AGENCY: Office of Governmentwide Policy, General Services Administration (GSA).

ACTION: Final rule.

SUMMARY: The General Services Administration (GSA) is amending the Federal Travel Regulation (FTR), by clarifying various provisions regarding temporary duty (TDY) travel. The explanation of changes is addressed in the supplementary information below. The FTR and any corresponding documents may be accessed at GSA's website at http://www.gsa.gov/ftr.

DATES: Effective Date: May 18, 2005.

FOR FURTHER INFORMATION CONTACT: The Regulatory Secretariat (VIR), Room 4035, GS Building, Washington, DC, 20405, (202) 208-7312, for information pertaining to status or publication schedules. For clarification of content, contact Umeki Gray Thorne, Office of Governmentwide Policy, Travel Management Policy, at (202) 208-7636. Please cite FTR Amendment 2005-03; FTR case 2005-304.

SUPPLEMENTARY INFORMATION:

A. Background

The changes in this final rule clarify existing sections of chapters 301 and 304 as follows:

1. In section 301-2.5(a) “premium-class” is replaced with “first-class or business-class”.

2. In section 301-10.106(b) “premium class” is replaced with “business-class”.

3. In section 301-10.121 an introductory paragraph is added and the definition of “coach-class” is revised; the term and definition of “premium-class” is deleted; the term and definition of “business-class” is added; the definition of “first-class” is revised; the term and definition of “premium-class other than first-class” is deleted; and the definition of “single-class” is moved from paragraph (e) to paragraph (d).

4. In section 301-10.123 the introductory paragraph is revised and in paragraph (a) “premium-class other than first-class” is replaced with “business-class”.

5. In section 301-10.124 the section heading and the note to section 301-10.124 “premium-class other than first-class” is replaced with “business-class”. In section 301-10.124 “premium-class” is replaced with “first-class and business-class”.

6. In section 301-11.20(a)(4) “less than premium-class” is replaced with “coach-class”.

7. In section 301-13.3(f) “premium-class” is replaced with “first-class” and “business-class”.

8. Section 301-50.6(a)(2) is revised.

9. Section 301-70.102(b)(1) is revised.

10. In section 301-71.105(a) “premium-class” is replaced with “first-class or business-class”.

11. In Appendix C to Chapter 301—Standard Data Elements for Federal Travel, the phrases “premium class” and “Non-premium class” are replaced with the phrases “first-class and business class” and “Non-first-class and Non-business-class” respectively, wherever they appear.

12. In section 304-3.9 “premium-class other than first-class common carrier” is replaced with “business-class”.

13. In section 304-5.5 “premium other than first-class” is replaced with “business-class”.

B. Executive Order 12866

This is not a significant regulatory action and, therefore, was not subject to review under Section 6(b) of Executive Order 12866, Regulatory Planning and Review, dated September 30, 1993. This rule is not a major rule under 5 U.S.C. 804.

C. Regulatory Flexibility Act

This final rule is not required to be published in the Federal Register for notice and comment; therefore, the Regulatory Flexibility Act, 5 U.S.C. 601, et seq., does not apply.

D. Paperwork Reduction Act

The Paperwork Reduction Act does not apply because the changes to the FTR do not impose recordkeeping or information collection requirements, or the collection of information from offerors, contractors, or members of the public that require the approval of the Office of Management and Budget under 44 U.S.C. 3501, et seq.

E. Small Business Regulatory Enforcement Fairness Act

This final rule is also exempt from congressional review prescribed under 5 U.S.C. 801 since it relates solely to agency management and personnel.

List of Subjects in 41 CFR Parts 301-2, 301-10, 301-11, 301-13, 301-50, 301-70, 301-71, 304-3, and 304-5.

Government employees, Travel and transportation expenses.

Dated: May 5, 2005.
Stephen A. Perry,
Administrator of General Services.

For the reasons set forth in the preamble, under 5 U.S.C. 5701-5709, GSA amends 41 CFR parts 301-2, 301-10, 301-11, 301-13, 301-50, 301-70, 301-71, 304-3, and 304-5 as set forth below:

CHAPTER 301—TEMPORARY DUTY (TDY) TRAVEL ALLOWANCES

PART 301-2—GENERAL RULES

1. The authority citation for 41 CFR part 301-2 continues to read as follows:

Authority: 5 U.S.C. 5707, 31 U.S.C. 1353; 49 U.S.C. 40118.

§ 301-2.5 [Amended]

2. Amend § 301-2.5(a) by removing “premium-class service” and adding “first-class or business-class service” in its place.

PART 301-10—TRANSPORTATION EXPENSES

3. The authority citation for 41 CFR part 301-10 is revised to read as follows:

Authority: 5 U.S.C. 5707, 40 U.S.C. 121(c); 49 U.S.C. 40118, Office of Management and Budget Circular No. A-126, “Improving the Management and Use of Government Aircraft.” Revised May 22, 1992.

§ 301-10.106 [Amended]

4. Amend § 301-10.106(b) by removing “premium class” and adding “business-class” in its place.

5. Revise § 301-10.121 to read as follows:

§ 301-10.121 What classes of airline accommodations are available?

The following classes of air accommodations are available:

(a) Coach-class. The basic class of accommodations offered to travelers regardless of fare paid. The terms “tourist” or “economy-class” are sometimes used for this class of accommodation. When authorizing this class of accommodation, use of the contract city-pair fare is mandatory.

(b) Business-class. A premium-class of accommodation offered by the airlines that is higher than coach and lower than first class, in both cost and amenities. This class of accommodation is generally referred to as “business, business elite, business first, world business, connoisseur, or envoy” depending on the airline. Not all city-pair fares are available in business-class, and even when use of business-class is authorized, the use of business-class city-pair fares is optional. This class of service may only be authorized in accordance with the provisions of § 301-10.124 of this part.

(c) First-class. Generally, the highest class of accommodation offered by the airlines in terms of both cost and amenities and termed “first-class” by the airlines and any reservation system. This class of accommodation may only be authorized in accordance with the provisions of § 301-10.123 of this part. There are no contract city-pair fares for this class of accommodation.

(d) Single-class. This term applies when an airline offers only one class of accommodations to all travelers.

6. Amend § 301-10.123 by revising the introductory paragraph and the first sentence of paragraph (a) to read as follows:

§ 301-10.123 When may I use first-class airline accommodations?

You may use first-class airline accommodations only when your agency specifically authorizes/approves your use of such accommodations, for the reasons given under paragraphs (a) through (d) of this section.

(a) No coach or business-class accommodations are reasonably available. * * *

7. Amend § 301-10.124 by—

a. Revising the section heading and introductory paragraph;

b. Removing from paragraph (a) “premium-class” and adding “first-class and business-class” in its place; and

c. Removing from paragraphs (c), (d), and the note to § 301-10.124, “premium-class other than first class” wherever it appears and adding “business-class” in its place.

The revised text reads as follows:

§ 301-10.124 When may I use business-class airline accommodations?

Only when your agency specifically authorizes/approves your use of such accommodations, for the reasons given under paragraphs (a) through (i) of this section.

PART 301-11—PER DIEM EXPENSES

8. The authority citation for 41 CFR part 301-11 continues to read as follows:

Authority: 5 U.S.C. 5707.

§ 301-11.20 [Amended]

9. Amend § 301-11.20 in paragraph (a)(4) by removing “less than premium-class” and adding “coach-class” in its place.

PART 301-13—TRAVEL OF AN EMPLOYEE WITH SPECIAL NEEDS

10. The authority citation for 41 CFR part 301-13 continues to read as follows:

Authority: 5 U.S.C. 5707.

11. Amend § 301-13.3 by revising paragraph (f) to read as follows:

§ 301-13.3 What additional travel expenses may my agency pay under this part?

(f) First-class accommodations under § 301-10.123(b) and business-class accommodations under § 301-10.124(c) of this chapter when necessary to accommodate your special need.

PART 301-50—ARRANGING FOR TRAVEL SERVICES

12. The authority citation for 41 CFR part 301-50 continues to read as follows:

Authority: 5 U.S.C. 5707; 40 U.S.C. 121(c).

13. Amend § 301-50.6 by revising paragraph (a)(2) to read as follows:

§ 301-50.6 Are there any limits on travel arrangements I may make?

(a)* * *

(2) You may use first-class accommodations only under §§ 301-10.123, 301-10.162, and 301-10.183 and business-class accommodations only under § 301-10.124 of this chapter; and

PART 301-70—INTERNAL POLICY AND PROCEDURE REQUIREMENTS

14. The authority citation for 41 CFR part 301-70 continues to read as follows:

Authority: 5 U.S.C. 5707; 40 U.S.C. 121(c); Sec. 2, Pub. L. 105-264, 112 Stat. 2350 (5 U.S.C. 5701 note), Office of Management and Budget Circular No. A-126, “Improving the Management and Use of Government Aircraft.” Revised May 22, 1992.

15. Amend § 301-70.102 by revising paragraph (b)(1) to read as follows:

§ 301-70.102 What governing policies must we establish for authorization and payment of transportation expenses?

(b)* * *

(1) Use of business-class service for airlines under § 301-10.124 and first-class service for air, rail, and ship under §§ 301-10.123, 301-10.162, and 301-10.183 of this chapter;

PART 301-71—AGENCY TRAVEL ACCOUNTABILITY REQUIREMENTS

16. The authority citation for 41 CFR part 301-71 continues to read as follows:

Authority: 5 U.S.C. 5707; 40 U.S.C. 486(c); Sec. 2, Pub. L. 105-264, 112 Stat. 2350 (5 U.S.C. 5701 note).

§ 301-71.105 [Amended]

17. Amend § 301-71.105 in paragraph (a) by removing “premium-class” and adding “first-class or business-class” in its place.

Appendix C to Chapter 301 [Amended]

18. Amend Appendix C to Chapter 301 by removing “premium class” wherever it appears and adding “first-class and business-class” in its place, and removing “Non-premium class” wherever it appears and adding “Non-first-class and Non-business-class” in its place.

CHAPTER 304—PAYMENT OF TRAVEL EXPENSES FROM A NON-FEDERAL SOURCE

PART 304-3—EMPLOYEE RESPONSIBILITY

19. The authority citation for 41 CFR part 304-3 continues to read as follows:

Authority: 5 U.S.C. 5707; 31 U.S.C. 1353.

20. Revise § 304-3.9 to read as follows:

§ 304-3.9 May I use business-class accommodations when a non-Federal source pays in full for my transportation expenses to attend a meeting?

Yes, you may use business-class accommodations if your agency authorizes you to do so in accordance with § 304-5.5 of this chapter.

PART 304-5—AGENCY RESPONSIBILITIES

21. The authority citation for 41 CFR part 304-5 continues to read as follows:

Authority: 5 U.S.C. 5707; 31 U.S.C. 1353.

§ 304-5.5 [Amended]

22. Amend § 304-5.5 by removing from the section heading and introductory paragraph “premium other than first-class” and adding “business-class” in its place.

[FR Doc. 05-9893 Filed 5-17-05; 8:45 am]

BILLING CODE 6820-14-S